DEPARTMENT OF ENERGY

Agency Information Collection Extension

AGENCY: Department of Energy.

ACTION: Notice and request for comments.

SUMMARY: The Department of Energy (DOE) pursuant to the Paperwork Reduction Act of 1995, intends to extend for three years, an information collection request with the Office of Management and Budget (OMB). Comments are invited on: (a) Whether the extended information collection is necessary for the proper performance of the functions of the agency, including whether the information shall have practical utility; (b) the accuracy of the agency's estimate of the burden of the proposed information collection, including the validity of the methodology and assumptions used; (c) ways to enhance the quality, utility, and clarity of the information to be collected; and (d) ways to minimize the burden of the information collection on respondents, including through the use of automated collection techniques or other forms of information technology.

DATES: Comments regarding this collection must be received on or before December 21, 2015. If you anticipate difficulty in submitting comments within that period, contact the person listed below as soon as possible.

ADDRESSES: Written comments may be sent to Sandra Dentinger, AU-70, Germantown Building, U.S. Department of Energy, 1000 Independence Ave. SW., Washington, DC 20585-1290, by fax at 301-903-2194 or by email at Sandra.dentinger@hq.doe.gov, or information about the collection instruments may be obtained at http://energy.gov/ehss/information-collection.

FOR FURTHER INFORMATION CONTACT: Requests for additional information or copies of the information collection instrument and instructions should be directed to the person listed above in ADDRESSES.

SUPPLEMENTARY INFORMATION: The information collection request contains the following: (1) OMB No: 1910-0300; (2) Information Collection Request Title: Environment, Safety and Health; (3) Type of Review: Renewal; (4) Purpose: The collections are used by DOE to exercise management oversight and control over its contractors in the ways in which the DOE contractors provide goods and services for DOE organizations and activities in accordance with the terms of their contract(s); the applicable statutory, regulatory and mission support requirements of the Department. The collections are: Computerized Accident/Incident Reporting System (CAIRS); Occurrence Reporting and Processing System (ORPS); Noncompliance Tracking System (NTS); Radiation Exposure Monitoring System (REMS); Annual Fire Protection Summary Application; Safety Basis Information System; and Lessons Learned System; (5) Annual Estimated Number of Respondents: 1,004; (6) Annual Estimated Number of Total Responses: 79,634; (7) Response Obligation: Required, except for Noncompliance Tracking System (see Statutory Authority section below); (8) Annual Estimated Number of Burden Hours: 41,733; (9) Annual Estimated Reporting and Recordkeeping Cost Burden: $0.

Statutory Authority: Section 641 of the Department of Energy Organization Act, codified at 42 U.S.C. 7251, and the following additional authorities:

Computerized Accident/Incident Reporting System (CAIRS): DOE Order 231.1B (June 27, 2011).

Occurrence Reporting and Processing System (ORPS): DOE Order 232.2 (Admin Chg 1, March 12, 2014).

Noncompliance Tracking System (NTS): 10 CFR part 820; 10 CFR part 851.

Radiation Exposure Monitoring System (REMS): 10 CFR part 835; DOE Order 231.1B (June 27, 2011).

Annual Fire Protection Summary Application: DOE Order 231.1B (June 27, 2011).

Safety Basis Information System: 10 CFR part 830; DOE Order 231.1B (June 27, 2011).

Lessons Learned System: DOE Order 210.2A (April 8, 2011).

Issued in Washington, DC, on October 15, 2015.
Stephanie K. Martin,
Acting Director, Office of Resource Management, Office of Environment, Health, Safety and Security.

[FR Doc. 2015-26744 Filed 10-20-15; 8:45 am]

BILLING CODE 6450-01-P